DEPARTMENT OF ENERGY

Federal Energy Regulatory Commission

[Docket No. ER03-190-000, et al.]

CMS Panhandle Lake Charles Generating Company LLC, et al.; Electric Rate and Corporate Filings

November 21, 2002.

The following filings have been made with the Commission. The filings are listed in ascending order within each docket classification.

1. CMS Panhandle Lake Charles; Generation Company LLC

[Docket No. ER03-190-000]

Take notice that on November 19, 2002, CMS Panhandle Lake Charles Generation Company LLC filed a Notice of Succession with regard to the market-based sales Rate Schedule FERC No. 1 of its predecessor, PanEnergy Lake Charles Generation Inc., to be effective October 19, 2001 and a Notice of Cancellation of that same Rate Schedule to be effective December 31, 2002.

Comment Date: December 10, 2002.

2. Peaker LLC

[Docket No. ER03-191-000]

Take notice that on November 19, 2002, Peaker LLC (Seller) petitioned the Commission for an order: (1) Accepting Seller's proposed FERC rate schedule for market-based rates; (2) granting waiver of certain requirements under Subparts B and C of part 35 of the regulations, and (3) granting the blanket approvals normally accorded sellers permitted to sell at market-based rates.

Comment Date: December 10, 2002.

3. Southern California Edison Company

[Docket No. ER03-192-000]

Take notice that on November 20, 2002, Southern California Edison Company (SCE) tendered for filing a Notice of Cancellation of FERC Tariff, First Revised Original Volume No. 6, Service Agreement No. 6, effective August 3, 2002. The Interconnection Facilities Agreement is between SCE and Mountainview Power Company L.L.C.

Notice of the proposed cancellation has been served upon the Public Utilities Commission of the State of California. SCE request effective date of December 8, 2002.

Comment Date: December 11, 2002.

4. Southern California Edison Company

[Docket No. ER03-193-000]

Take notice that on November 20, 2002, Southern California Edison Company (SCE) tendered for filing a Letter Agreement between SCE and Energy Unlimited, Inc. (EUI). The purpose of the Letter Agreement is to provide an interim arrangement pursuant to which SCE will perform the work necessary to develop the easement documents including, but not limited to, survey of the existing site and for legal description, mapping, title, and estimate of land acquisition costs for EUI to interconnect its generating facility to SCE's distribution system.

Copies of this filing were served upon the Public Utilities Commission of the State of California and EUI.

Comment Date: December 11, 2002.

5. PJM Interconnection, L.L.C.

[Docket No. ER03-194-000]

Take notice that on November 19, 2002 PJM Interconnection, L.L.C. (PJM), submitted for filing an executed interconnection service agreement between PJM and Duke Energy Fayette, LLC (Duke Energy).

PJM requests a waiver of the Commission's 60-day notice requirement to permit the effective date agreed to by Duke Energy and PJM. Copies of this filing were served upon Duke Energy and the state regulatory commissions within the PJM region.

Comment Date: December 10, 2002.

6. Little Bay Power Corporation

[Docket No. ER03-195-000]

Take notice that on November 19, 2002, pursuant to Section 35.15(a), 18 CFR 35.15(a) of the Commission's Regulations, Little Bay Power Corporation (Little Bay) filed with the Federal Energy Regulatory Commission a Notice of Termination of its market-based rate tariff. Little Bay requests waiver of the Commission's prior notice requirements so that the termination may be effective January 1, 2003.

Comment Date: December 10, 2002.

7. Great Bay Power Corporation

[Docket No. ER03-196-000]

Take notice that on November 19, 2002, pursuant to Section 35.15(a), 18 CFR 35.15(a) of the Commission's Regulations, Great Bay Power Corporation (Great Bay) filed with the Federal Energy Regulatory Commission a Notice of Termination of Great Bay's market-based rate tariffs, FERC Electric Tariff Nos. 2 and 3. Great Bay requests waiver of the Commission's prior notice requirements so that the terminations may be effective January 1, 2003.

Comment Date: December 10, 2002.

8. Southern California Edison Company

[Docket No. ER03-197-000]

Take notice that on November 20, 2002, Southern California Edison Company (SCE) tendered for filing the Shiprock-Four Corners Project 345-kV Switchyard Interconnection Agreement (IA) among the Four Corners Participants (SCE, Arizona Public Service Company, El Paso Electric Company, Public Service Company of New Mexico, Salt River Project Agricultural Improvement and Power District, and Tucson Electric Power Company) and the Interconnection Participants (Public Service of Colorado, Tri-State Generation and Transmission Association, Inc., and the United States of America acting by and through the Administrator, Western Area Power Administration, Department of Energy).

The IA establishes the rates, terms and conditions for installation, operation and maintenance of interconnection facilities related to the interconnection of the Interconnection Participants' transmission line from Shiprock Substation, located in Shiprock, New Mexico, to a 345-kV switchyard at the Four Corners Project which is jointly owned by the Four Corners Participants. Copies of this filing were served upon the Public Utilities Commission of the State of California.

Comment Date: December 10, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-30962 Filed 12-5-02; 8:45 am]

BILLING CODE 6717-01-P